DEPARTMENT OF HOMELAND SECURITY

8 CFR Part 214

[CIS No. 2832-25; DHS Docket No. USCIS-2025-0238]

RIN 1615-AD04

Facilitating Earlier Filing of Certain Electronically Submitted H-2A Petitions

AGENCY: U.S. Citizenship and Immigration Services (“USCIS”), Department of Homeland Security (“DHS”).

ACTION: Final rule.

SUMMARY: This final rule amends DHS regulations to modify the timing of when USCIS must receive a valid temporary labor certification when an H-2A petitioner electronically files a Petition for a Nonimmigrant Worker requesting unnamed beneficiaries.

DATES: This final rule is effective on October 2, 2025.

FOR FURTHER INFORMATION CONTACT: Business and Foreign Workers Division, Office of Policy and Strategy, U.S. Citizenship and Immigration Services, Department of Homeland Security, 5900 Capital Gateway Drive, Camp Springs, MD 20746; telephone 240-721-3000 (not a toll-free call).

SUPPLEMENTARY INFORMATION:

I. Background

The Immigration and Nationality Act (INA), as amended, establishes the H-2A nonimmigrant classification for a temporary worker “having a residence in a foreign country which he has no intention of abandoning who is coming temporarily to the United States to perform agricultural labor or services . . . of a temporary or seasonal nature.” INA section 101(a)(15)(H)(ii)(a), 8 U.S.C. 1101(a)(15)(H)(ii)(a). Employers must petition the Department of Homeland Security (DHS), U.S. Citizenship and Immigration Services (USCIS), for classification of prospective temporary workers as H-2A nonimmigrants. INA section 214(c)(1), 8 U.S.C. 1184(c)(1). DHS must approve this petition before the beneficiary can be considered eligible for an H-2A visa. Finally, the INA requires that “[t]he question of importing any alien as [an H-2A] nonimmigrant . . . in any specific case or specific cases shall be determined by [DHS],¹ after consultation with appropriate agencies of the Government . . . mean[ing] the U.S. Department of Labor and includ[ing] the U.S. Department of Agriculture.” INA section 214(c)(1), 8 U.S.C. 1184(c)(1).

¹ As of March 1, 2003, in accordance with section 1517 of Title XV of the Homeland Security Act of 2002 (HSA), Public Law 107-296, 116 Stat. 2135, any reference to the Attorney General in a provision of the Immigration and Nationality Act (INA) describing functions which were transferred from the Attorney General or other Department of Justice official to the Department of Homeland Security by the HSA “shall be deemed to refer to the Secretary” of Homeland Security. See 6 U.S.C. 557 (2003) (codifying HSA, Title XV, sec. 1517); 6 U.S.C. 542 note; 8 U.S.C. 1551 note. The Secretary of Homeland Security has authority to enforce and administer the immigration laws, including those relating to nonimmigrants, and to “establish such regulations; prescribe such forms of bond, reports, entries, and other papers; issue such instructions; and perform such other acts as [s]he deems necessary for carrying out h[er] authority” under the INA. 8 U.S.C. 1103(a)(1), (a)(3); see also, e.g., 6 U.S.C. 202(3)-(4), 236(b), 271(a)(3), (b); 8 U.S.C. 1184.

Existing DHS regulations provide that an H-2A petition for temporary employment in the United States must be accompanied by a single valid temporary labor certification (TLC) from the U.S. Department of Labor (DOL) issued in accordance with INA section 218, 8 U.S.C. 1188, and DOL regulations established at 20 CFR part 655, subpart B. 8 CFR 214.2(h)(5)(i)(A), (D), (h)(5)(iv); see also INA sections 214(c)(1) and 218, 8 U.S.C. 1184(c)(1) and 1188.² The TLC serves as DHS's consultation with DOL regarding whether: (i) An able, willing, and qualified U.S. worker is available to fill the petitioning H-2A employer's job opportunity, and (ii) whether a foreign worker's employment in the job opportunity will adversely affect the wages or working conditions of similarly employed workers in the U.S. See INA sections 214(c)(1) and 218, 8 U.S.C. 1184(c)(1) and 1188; see also 8 CFR 214.2(h)(5)(ii); 20 CFR 655.100.

² Under certain emergent circumstances, petitions requesting a continuation of employment with the same employer for 2 weeks or less are exempt from the TLC requirement. See 8 CFR 214.2(h)(5)(x).

DHS regulations refer to a valid TLC by various terms including “Department of Labor determination” at 8 CFR 214.2(h)(2)(i)(E), “approved labor certification” at 8 CFR 214.2(h)(5)(x), and “temporary agricultural labor certification” at 8 CFR 214.2(h)(5)(i)(A), (h)(5)(iv)(B). The Form I-129, H-2A instructions also indicate that petitioners must submit a single valid temporary labor certification from DOL.³

³ See https://www.uscis.gov/i-129. Under certain emergent circumstances, petitions requesting a continuation of employment with the same employer for 2 weeks or less are exempt from the TLC requirement. See 8 CFR 214.2(h)(5)(x).

In 2019, DOL's Office of Foreign Labor Certification (OFLC) announced that it was transitioning electronic filing of H-2A applications to the new Foreign Labor Application Gateway (FLAG) system beginning October 1, 2019.⁴ The transition to the FLAG system meant that employers whose TLCs were approved would receive the Form ETA-9142A, Final Determination: H-2A Temporary Labor Certification Approval, and Final Determination letter electronically, rather than receiving a paper TLC and Final Determination by mail. DOL provided a paper delivery exception for employers, including their authorized attorneys or agents who were not able to receive this documentation electronically. To effectuate this change, on March 6, 2020, USCIS published a notice in the Federal Register announcing that employers who received TLCs through DOL's FLAG system would need to provide a printed copy of the DOL Final Determination with the H-2A petition as required initial evidence and that a printed copy of the Final Determination completed and electronically signed by DOL satisfies the requirement that petitioners provide evidence of a valid TLC pursuant to 8 CFR 214.2(h)(5)(i)(A).⁵

⁴ See https://www.dol.gov/agencies/eta/foreign-labor/news.

⁵ Notice of DHS's Requirement of the Temporary Labor Certification Final Determination Under the H-2A Temporary Worker Program, 85 FR 13176 (Mar. 6, 2020).

In 2022, DOL made electronic filing and issuance of temporary agricultural labor certifications in the H-2A program mandatory, except in limited circumstances.⁶ A printed copy of the signed DOL Final Determination is still required to be submitted to USCIS with the paper-filed H-2A petition on Form I-129 as initial evidence of a valid TLC.

⁶ Temporary Agricultural Employment of H-2A Nonimmigrants in the United States, 87 FR 61660, 61783 (Oct. 12, 2022) (“. . . [T]his final rule requires an employer to submit the Application for Temporary Employment Certification and all required supporting documentation using an electronic method(s) designated by the OFLC Administrator, unless the employer cannot file electronically due to disability or lack of internet access.”); 20 CFR 655.130(c).

II. Purpose of Final Rule

This rule modifies the timing of when USCIS must receive a valid TLC for certain H-2A petitions, as part of a larger effort by DOL and DHS (collectively, “the Departments”) to modernize and streamline the H-2A process. In light of an urgent demand for an authorized agricultural labor force ⁷ and requests from the regulated community and members of Congress to make the H-2A program easier to use and more efficient for U.S. agricultural producers,⁸ the Departments are collaborating to create a more streamlined application and petition filing process for U.S. agricultural producers to help meet an urgent need for H-2A temporary agricultural workers while simultaneously ensuring that petitioners are complying with all statutory and regulatory requirements of the H-2A program. While both OFLC and USCIS have separately been meeting applicable processing timeframes,⁹ this effort is nonetheless aimed at improving customer service by reducing the overall time across Federal departments it takes to complete the temporary agricultural labor certification and nonimmigrant petition processes for petitioners seeking to employ H-2A workers, and also make the process more modernized and streamlined for H-2A petitioners.

⁷ See, e.g., American Enterprise Institute, Immigration Enforcement and the US Agricultural Sector in 2025 (Apr. 15, 2025) (“Anticipation of a reduced unauthorized immigrant worker supply will likely incentivize the agricultural sector to renew efforts to pass legislation that streamlines the H-2A program.”), https://www.aei.org/research-products/report/immigration-enforcement-and-the-us-agricultural-sector-in-2025/ (last visited July 30, 2025); USDA, Economic Research Service, Farm Labor (July 7, 2025) (noting that “[o]ne of the clearest indicators of the scarcity of farm labor is the fact that the number of H-2A positions requested and approved has increased more than sevenfold in the past 18 years”), https://www.ers.usda.gov/topics/farm-economy/farm-labor (last visited July 29, 2025); Fran Howard, Dairy Herd Management, Labor Shortage Continues to Plague Farms (Mar. 11, 2025) (based on recent trends, anticipating that “U.S. farm employment will drop to the lowest annual average since USDA began keeping track in 1996” and that “the steep decline in jobs this year is primarily driven by worker shortages”), https://www.dairyherd.com/news/labor/labor-shortage-continues-plague-farms (last visited July 29, 2025).

⁸ See the docket for this rulemaking for access to these letters.

⁹ DOL OFLC issues 98 percent of complete temporary agricultural labor certifications no later than 30 days before the first date of need and within approximately 21-34 calendar days of receipt. See DOL Flag Processing Times, https://flag.dol.gov/processingtimes (last visited Aug. 7, 2025); DOL, H-2A Selected Statistics, https://www.dol.gov/agencies/eta/foreign-labor/performance (last visited Aug. 7, 2025). USCIS provides expedited processing of Form I-129 for H-2A petitions and aims to process most H-2A petitions within 15 days. See GAO, GAO-25-106389, “H-2A Program, Agencies Should Take Additional Steps to Improve Oversight and Enforcement” 21 (Nov. 2024), https://files.gao.gov/reports/GAO-25-106389/index.html#_ftnref48. Currently, USCIS's average processing time for H-2A petitions is 11 days. See Department of Homeland Security, U.S. Citizenship and Immigration Services, Office of Performance and Quality, CLAIMS3, queried 08/2025, TRK 18511.

In furtherance of that overarching objective, DHS has received OMB approval on August 13, 2025 of a newly developed, streamlined PDF version of the Form I-129 petition, called Form I-129H2A, Petition for Nonimmigrant Worker: H-2A Classification, that H-2A petitioners may use to electronically file with USCIS. With the new Form I-129H2A, the petitioner is able to electronically submit evidence of the approved TLC to USCIS, rather than having to submit a printed copy of the approved TLC to USCIS as with the current paper-filed Form I-129. Because the streamlined Form I-129H2A is currently available for petitioners to submit electronically, this rule has no effect on the availability of electronic submission.

Under this rule, petitioners seeking unnamed beneficiaries will be able to electronically submit the H-2A petition after DOL issues a Notice of Acceptance (NOA) on the H-2A TLC application, pursuant to 20 CFR 655.143, and before the TLC is certified. New 8 CFR 214.2(h)(5)(i)(A). This change alters the earliest permissible submission date and enables USCIS to commence concurrent processing ¹⁰ of the H-2A petition while DOL processes the TLC, thereby allowing electronic filers to file earlier than currently permitted. Petitioners seeking concurrent processing under this rule must provide on the H-2A petition the ETA case number for the underlying TLC application but are not required to electronically submit a copy of the NOA or TLC as initial evidence, as USCIS will generally be able to access the relevant DOL information and verify both issuance of the NOA and subsequent approval of the TLC from the ETA case number. USCIS will continue to ensure that no H-2A petition is approved until DOL approves the TLC. New 8 CFR 214.2(h)(5)(i)(A)(2). If applicable, USCIS will make necessary modifications to the concurrently processed H-2A petition to reflect any modifications made by DOL to the TLC after issuance of the NOA and before certification, such as when DOL amends the first date of need or reduces the number of workers requested through partial certification. Id. H-2A TLC applications that are ultimately denied will lead to a denial of the H-2A petition. Id. Note that concurrent processing will be optional; petitioners seeking unnamed beneficiaries may choose to wait until the underlying TLC has been approved before electronically filing their H-2A petition.

¹⁰ Not to be confused with “concurrent filing,” concurrent processing will permit USCIS to electronically intake the H-2A petition and commence processing after DOL issues a notice of acceptance and continues processing the H-2A TLC application.

Petitioners seeking named beneficiaries will not be affected by this rule. Thus, petitioners seeking named beneficiaries will continue to be able to submit a petition to USCIS only after DOL certifies the H-2A TLC application. Named beneficiary petitions trigger additional legal and operational considerations, such as the 25-beneficiary limit requiring multiple petition filings supported by the same TLC, a more complicated fee structure, and the associated extension of stay or change of employer requests. H-2A portability, which allows a named H-2A worker to start working upon a petitioner's proper filing of an H-2A petition filed on the worker's behalf and in accordance with DHS regulations, also assumes a valid TLC, at the time the H-2A petition is filed, that accurately covers terms and conditions of employment that are applicable while the H-2A petition is pending.¹¹ Finally, modifications to the TLC by DOL could have significant ramifications on H-2A portability or for any named beneficiaries that USCIS cannot simply account for with corresponding modification of the petition.¹²

¹¹ See 8 CFR 214.2(h)(2)(i)(I).

¹² For instance, if DOL were to approve a TLC for fewer workers than those named on the corresponding H-2A petition, USCIS would need to make additional determinations as to which of the named alien beneficiaries (who may already be in the United States) would be omitted from the petition.

In addition, the procedural change in this rule will not apply to paper-filed H-2A petitions; petitioners submitting paper H-2A petitions must continue to file only after DOL approves the H-2A TLC application. As electronic filing is a more efficient process than paper filing and offers greater potential for future development of further processing efficiencies, DHS believes that it is appropriate to limit the concurrent processing facilitated by this rule to electronically filed petitions as an incentive for H-2A petitioners to choose to electronically file their petitions. Since USCIS has recently made electronic filing available to H-2A petitioners, DHS anticipates fast and widespread adoption of electronic filing by H-2A petitioners covered by this rule given that H-2A petitioners already must electronically file their H-2A TLC applications with DOL.¹³

¹³ See 20 CFR 655.130(c) (stating that an H-2A employer “must file” the TLC application “using the electronic method(s) designated by the OFLC Administrator,” while providing a limited exception to allow employers to file by mail if they are granted a reasonable accommodation request by DOL).

In summary, this final rule amends 8 CFR 214.2(h)(5)(i)(A) and (D) to add an exception to the existing requirement that a valid temporary agricultural labor certification must be provided at the time of filing, for H-2A petitions requesting unnamed beneficiaries that are being filed electronically, and to make other conforming edits. See new 8 CFR 214.2(h)(5)(i)(A)(1) and (2) and revised (h)(5)(i)(D). This change enables USCIS to commence processing of the H-2A petition while DOL is also processing the TLC in these cases. However, USCIS will continue to ensure that DOL approved the TLC before approving the H-2A petition.¹⁴

¹⁴ In issuing this final rule, the Department consulted with the U.S. Department of Labor and the U.S. Department of Agriculture.

III. Statutory and Regulatory Requirements

A. Administrative Procedure Act

The Administrative Procedure Act, 5 U.S.C. 553(b)-(c) requires agencies to publish a notice of proposed rulemaking and provide an opportunity for public comment when issuing rules, unless such rules are rules of agency organization, procedure, or practice. DHS has issued this final rule without prior notice and opportunity for comment because this is a rule of agency organization, procedure, or practice (“procedural rule”). 5 U.S.C. 553(b)(A). The procedural rule exception “covers agency actions that do not themselves alter the rights or interests of parties, although it may alter the manner in which the parties present themselves or their viewpoints to the agency.” JEM Broad. Co., Inc. v. FCC, 22 F.3d 320, 326 (D.C. Cir. 1994) (quoting Batterton v. Marshall, 648 F.2d 694, 707 (D.C. Cir. 1980)); see also Mendoza v. Perez, 754 F.3d 1002, 1023-24 (D.C. Cir. 2014); Am. Hosp. Ass'n v. Bowen, 834 F.2d 1037, 1047 (D.C. Cir. 1987) (holding that procedural rules are those that do not “encode a substantive value judgment or put a stamp of approval or disapproval on a given type of behavior”).

This final rule merely changes the timing of when a valid TLC may be provided to USCIS when a petitioner is voluntarily filing an H-2A petition requesting unnamed beneficiaries electronically with USCIS. It does not alter the rights or interests of any party or encode a substantive value judgment on a given type of private behavior. An approved TLC still must be provided to USCIS before USCIS can complete the adjudication of the H-2A petition. Accordingly, DHS may forgo advance notice and opportunity for comment.

Section 553(d) of the APA requires that agencies publish substantive rules at least 30 days before their effective date, unless one of the enumerated exceptions applies. Because this rule governs agency procedure and does not alter the substantive rights or obligations of regulated parties, it is not a substantive rule within the meaning of section 553(d). Some courts have recognized that the 30-day delayed effective date requirement applies only to substantive rules, and therefore does not extend to rules of agency procedure. See, e.g., Rowell v. Andrus, 631 F.2d 699, 702 (10th Cir. 1980) (recognizing that 5 U.S.C. 553(d) applies to substantive rules and by implication exempts procedural rules). The D.C. Circuit has, however, suggested that section 553(d) may apply more broadly, stating that the 30-day requirement “applies even to rules of agency organization, procedure, or practice, but is not required for `interpretive rules and statements of policy.” Batterton v. Marshall, 648 F.2d 694, 701 (D.C. Cir. 1980). To the extent section 553(d) is construed to apply to this rule, we find good cause under section 553(d)(3) to make this rule effective upon publication. Courts have recognized that section 553(d) serves a distinct purpose and have applied a test weighing whether the need for immediate implementation outweighs affected parties' need to prepare for implementation of the new rule. See Riverbend Farms, Inc. v. Madigan, 958 F.2d 1479, 1485 (9th Cir. 1992); Am. Fed'n of Gov't Emps., AFL-CIO v. Block, 655 F.2d 1153, 1156 (D.C. Cir. 1981). In the case of this procedural rule, we find immediate implementation appropriate. The rule simply permits concurrent processing of electronically filed petitions with unnamed beneficiaries, allowing petitioners the flexibility to file a petition with USCIS sooner than previously permitted. As such, petitioners do not need to take any preparatory steps and delaying implementation would only postpone the intended efficiency. For these reasons, DHS may forgo a 30-day delayed effective date in implementing this procedural rule.

B. Executive Order 12866 (Regulatory Planning and Review), Executive Order 13563 (Improving Regulation and Regulatory Review), and Executive Order 14192 (Unleashing Prosperity Through Deregulation)

Executive Orders 12866 (Regulatory Planning and Review) and 13563 (Improving Regulation and Regulatory Review), direct agencies to assess the costs and benefits of available regulatory alternatives and, if regulation is necessary, to select regulatory approaches that maximize net benefits. Executive Order 13563 emphasizes the importance of quantifying costs and benefits, reducing costs, harmonizing rules, and promoting flexibility. The Office of Management and Budget (OMB) has not designated this rule a “significant regulatory action,” under section 3(f) of Executive Order 12866. Accordingly, OMB has not reviewed it.

Executive Order 14192 (Unleashing Prosperity Through Deregulation) directs agencies to significantly reduce the private expenditures required to comply with Federal regulations and provides that “any new incremental costs associated with new regulations shall, to the extent permitted by law, be offset by the elimination of existing costs associated with at least 10 prior regulations.” This rule is not an Executive Order 14192 regulatory action because it is being issued with respect to an immigration-related function of the United States. The rule's primary direct purpose is to implement or interpret the immigration laws of the United States (as described in INA § 101(a)(17), 8 U.S.C. 1101(a)(17)) or any other function performed by the U.S. Federal Government with respect to aliens. See OMB Memorandum M-25-20, “Guidance Implementing Section 3 of Executive Order 14192, titled `Unleashing Prosperity Through Deregulation' ” (Mar. 26, 2025).

The costs to the public of this rule include the potential cost to petitioners pursuing concurrent processing whose TLC is denied by the DOL after having paid the non-refundable filing fees to USCIS.¹⁵ We estimate that 73.0 percent of H-2A petitions are filed annually for unnamed beneficiaries, and that 94.8 percent of petitioners file unnamed beneficiary petitions.¹⁶ Given that DOL has mandated electronic filing of H-2A TLC applications, by regulation, since November 14, 2022, we anticipate that many of those petitioners, and particularly those familiar with DOL programmatic requirements, will choose concurrent processing for electronically filed unnamed beneficiary petitions as their risk of having their TLCs denied after DOL issues a Notice of Acceptance is likely low. However, DHS cannot definitively estimate the number of petitioners who will ultimately opt for concurrent processing. The filing fees for Form I-129 for unnamed beneficiaries range from $460 for small employers and non-profits to $530 for other filers.¹⁷ Employers that file a Form I-129 also pay the Asylum Program Fee; the standard fee is $600, but is $300 for small employer petitioners with 25 or fewer full-time equivalent employees. Nonprofit employers are exempt from the Asylum Program Fee.¹⁸

¹⁵ DOL's denial rates for H-2A Applications are low. In fiscal year 2024, DOL denied 158 applications out of 22,623 received—a denial rate of less than 1 percent. Calculation: 158 denials/22,623 applications = 0.00698 (rounded) approximately 0.7 percent. See DOL, Office of Foreign Labor Certification “H-2A Temporary Agricultural Program—Selected Statistics, Fiscal Year (FY) 2024” available at https://www.dol.gov/sites/dolgov/files/ETA/oflc/pdfs/H-2A_Selected_Statistics_FY2024_Q4.pdf (accessed August 5, 2025).

¹⁶ Source: DHS, USCIS, Office of Performance and Quality, CLAIMS3 & ELIS, queried 08/2025, PAER0018649.

¹⁷ See DHS, USCIS, Form G-1055 Fee Schedule available at https://www.uscis.gov/sites/default/files/document/forms/g-1055.pdf (accessed August 1, 2025).

¹⁸ See DHS, USCIS, “USCIS Reminds Certain Employment-Based Petitioners to Submit the Correct Required Fees” available at https://www.uscis.gov/newsroom/alerts/uscis-reminds-certain-employment-based-petitioners-to-submit-the-correct-required-fees (accessed August 4, 2025).

The benefits to the employers using H-2A concurrent processing for certain electronically filed H-2A petitions, and to the resulting employees, is that productivity is shifted forward by approximately two weeks. This is not an extension of the time an H-2A employee is permitted to work in the United States; it only expedites the process. However, DHS expects that employers using this process will receive some expected benefit; otherwise, they are not expected to incur the risk associated with a denied TLC and lost filing fee. However, we are not able to monetize this expected benefit.

Given these factors, DHS has determined that this rule is not likely to have an annual effect on the economy of $100 million or more or adversely affect in a material way the economy, a sector of the economy, productivity, competition, jobs, the environment, public health or safety, or State, local, or tribal governments or communities; and is therefore not economically significant under section 3(f)(1) of Executive Order 12866.

C. Regulatory Flexibility Act

The Regulatory Flexibility Act (RFA) (5 U.S.C. 601 et seq.), as amended by the Small Business Regulatory Enforcement Fairness Act of 1996 (SBREFA), requires an agency to prepare and make available to the public a regulatory flexibility analysis that describes the effect of the rule on small entities (i.e., small businesses, small organizations, and small governmental jurisdictions). The RFA's regulatory flexibility analysis requirements apply only to those rules for which an agency is required to publish a general notice of proposed rulemaking pursuant to 5 U.S.C. 553 or any other law. See 5 U.S.C. 604(a). DHS did not issue a notice of proposed rulemaking for this action. Therefore, a regulatory flexibility analysis is not required for this rule.

D. Unfunded Mandates Reform Act of 1995

The Unfunded Mandates Reform Act of 1995 (UMRA) is intended, among other things, to curb the practice of imposing unfunded Federal mandates on State, local, and tribal governments. Title II of UMRA requires each Federal agency to prepare a written statement assessing the effects of any Federal mandate in a proposed rule, or final rule for which the agency published a proposed rule, which includes any Federal mandate that may result in a $100 million or more expenditure (adjusted annually for inflation) in any one year by State, local, and tribal governments, in the aggregate, or by the private sector.¹⁹ The inflation adjusted value of $100 million in 1995 is approximately $206 million in 2024 based on the Consumer Price Index for All Urban Consumers (CPI-U).²⁰ This final rule is exempt from the written statement requirement, because DHS did not publish a notice of proposed rulemaking for this rule. In addition, this final rule does not contain a Federal mandate as the term is defined under UMRA.²¹ The requirements of title II of UMRA, therefore, do not apply, and DHS has not prepared a statement under UMRA.

¹⁹ See 2 U.S.C. 1532(a).

²⁰ See DOL, BLS, “Historical Consumer Price Index for All Urban Consumers (CPI-U): U.S. city average, all items, by month,” https://www.bls.gov/cpi/tables/supplemental-files/historical-cpi-u-202412.pdf (last visited Apr. 30, 2025). Calculation of inflation: (1) Calculate the average monthly CPI-U for the reference year (1995) and the current year (2024); (2) Subtract reference year CPI-U from current year CPI-U; (3) Divide the difference of the reference year CPI-U and current year CPI-U by the reference year CPI-U; (4) Multiply by 100 = [(Average monthly CPI-U for 2024 − Average monthly CPI-U for 1995) ÷ (Average monthly CPI-U for 1995)] × 100 = [(313.689 − 152.383) ÷ 152.383] = (161.306 ÷ 152.383) = 1.059 × 100 = 105.86 percent = 106 percent (rounded). Calculation of inflation-adjusted value: $100 million in 1995 dollars × 2.06 = $206 million in 2024 dollars.

²¹ The term “Federal mandate” means a Federal intergovernmental mandate or a Federal private sector mandate. See 2 U.S.C. 1502(1), 658(6).

E. Small Business Regulatory Enforcement Fairness Act of 1996 (Congressional Review Act)

This final rule is not a “rule” as defined by the Congressional Review Act (CRA), enacted as part of the Small Business Regulatory Enforcement Fairness Act of 1996, Public Law 104-121. See 5 U.S.C. 804(3)(C) (defining the term “rule” to exclude “any rule of agency organization, procedure, or practice that does not substantially affect the rights or obligations of non-agency parties”).

F. Executive Order 13132 (Federalism)

This final rule does not have substantial direct effects on the States, on the relationship between the National Government and the States, or on the distribution of power and responsibilities among the various levels of government. Therefore, in accordance with section 6 of E.O. 13132, Federalism, 64 FR 43255 (Aug. 4, 1999), this rule does not have sufficient federalism implications to warrant the preparation of a federalism summary impact statement.

G. Executive Order 12988 (Civil Justice Reform)

This final rule was drafted and reviewed in accordance with E.O. 12988, Civil Justice Reform. This final rule was written to provide a clear legal standard for affected conduct and was reviewed carefully to eliminate drafting errors and ambiguities, so as to minimize litigation and undue burden on the Federal court system. DHS has determined that this rule meets the applicable standards provided in section 3 of E.O. 12988.

H. Executive Order 13175 (Consultation and Coordination With Indian Tribal Governments)

This final rule does not have Tribal implications under Executive Order 13175, Consultation and Coordination with Indian Tribal Governments, because it would not have a substantial direct effect on one or more Indian Tribes, on the relationship between the Federal Government and Indian Tribes, or on the distribution of power and responsibilities between the Federal Government and Indian Tribes.

I. National Environmental Policy Act

DHS and its components analyze proposed regulatory actions to determine whether the National Environmental Policy Act (NEPA), 42 U.S.C. 4321 et seq., applies to them and, if so, what degree of analysis is required. DHS Directive 023-01 Rev. 01 “Implementing the National Environmental Policy Act” (Dir. 023- 01 Rev. 01) and Instruction Manual 023-01-001-01 Rev. 01 (Instruction Manual) ²² establish the policies and procedures that DHS and its components use to comply with NEPA.

²² The Instruction Manual, which contains DHS's procedures for implementing NEPA, was issued on November 6, 2014, and is available at https://www.dhs.gov/ocrso/eed/epb/nepa (last updated Apr. 14, 2025).

NEPA allows Federal agencies to establish, in their NEPA implementing procedures, categories of actions (“categorical exclusions”) that experience has shown do not, individually or cumulatively, have a significant effect on the human environment and, therefore, do not require an environmental assessment or environmental impact statement. See 42 U.S.C. 4336(a)(2), 4336e(1). The Instruction Manual, Appendix A lists the DHS Categorical Exclusions.²³

²³ See Appendix A, Table 1.

Under DHS NEPA implementing procedures, for an action to be categorically excluded, it must satisfy each of the following three conditions: (1) the entire action clearly fits within one or more of the categorical exclusions; (2) the action is not a piece of a larger action; and (3) no extraordinary circumstances exist that create the potential for a significant environmental effect.²⁴

²⁴ Instruction Manual 023-01 at V.B(2)(a)-(c).

This procedural final rule is limited to amending DHS's existing regulations at 8 CFR 214.2(h)(5)(i)(A) and (D) to facilitate earlier filing and concurrent processing by DOL and USCIS of H-2A petitions filed on behalf of unnamed beneficiaries. DHS has reviewed this final rule and finds that no significant impact on the environment, or any change in environmental effect, will result from the amendments being promulgated in this rule.

Accordingly, DHS finds that the promulgation of this rule's amendments to current regulations clearly fits within categorical exclusion A3 established in DHS's NEPA implementing procedures as an administrative change with no change in environmental effect, is not part of a larger Federal action, and does not present extraordinary circumstances that create the potential for a significant environmental effect.

J. Paperwork Reduction Act

Under the Paperwork Reduction Act of 1995 (PRA), 44 U.S.C. 3501-3512, and implementing regulations, 5 CFR part 1320, DHS must submit to the Office of Management and Budget (OMB) for review and approval, any reporting requirements inherent in a rule, unless they are exempt. This rule does not impose any new reporting or recordkeeping requirements under the PRA.

However, this rule requires the use of USCIS Form I-129H2A, Petition for Nonimmigrant Worker: H-2A Classification. OMB previously approved this form under the PRA. The OMB control number for this information collection is 1615-0009.

List of Subjects in 8 CFR Part 214

Administrative practice and procedure, Aliens, Cultural exchange program, Employment, Foreign officials, Health professionals, Reporting and recordkeeping requirements, Students.

Accordingly, for the reasons set forth in the preamble, DHS amends 8 CFR part 214 as follows:

PART 214—NONIMMIGRANT CLASSES

1. Revise the authority citation for part 214 to read as follows:

Authority: 6 U.S.C. 202, 236; 8 U.S.C. 1101, 1102, 1103, 1182, 1184, 1186a, 1187, 1188, 1221, 1281, 1282, 1301-1305, 1357, and 1372; sec. 643, Pub. L. 104-208, 110 Stat. 3009-708; Pub. L. 106-386, 114 Stat. 1477-1480; section 141 of the Compacts of Free Association with the Federated States of Micronesia and the Republic of the Marshall Islands, and with the Government of Palau, 48 U.S.C. 1901 note and 1931 note, respectively; 48 U.S.C. 1806; 8 CFR part 2; Pub. L. 115-218, 132 Stat. 1547 (48 U.S.C. 1806).

2. Section 214.2 is amended by revising paragraphs (h)(5)(i)(A) and (D) to read as follows:

§ 214.2 Special requirements for admission, extension, and maintenance of status.

* * * * *

(h) * * *

(5) * * *

(i) * * *

(A) General. (1) An H-2A petition must be filed on the form prescribed by USCIS and, except for an H-2A petition seeking unnamed beneficiaries filed electronically pursuant to paragraph (h)(5)(i)(A)(2) of this section, must be filed with a single valid temporary agricultural labor certification issued by the Department of Labor (DOL). The petition may be filed by either the employer listed on the application for temporary labor certification, the employer's agent, or the association of United States agricultural producers named as a joint employer on the application for temporary labor certification.

(2) An H-2A petition requesting unnamed beneficiaries may be filed electronically after DOL issues a notice of acceptance and before DOL approves the underlying application for temporary agricultural labor certification. If applicable, USCIS will make necessary modifications to the concurrently processed H-2A petition to reflect any modifications made by DOL to the application for temporary agricultural labor certification after issuance of the notice of acceptance and before certification. The temporary agricultural labor certification must be approved by DOL before USCIS may approve the H-2A petition, provided that all other statutory and regulatory requirements are met. If the H-2A petition is filed before DOL issues a notice of acceptance, or if DOL denies the application for temporary agricultural labor certification, USCIS will deny the H-2A petition.

* * * * *

(D) Evidence. An H-2A petitioner must show that the proposed employment qualifies as a basis for H-2A status, and that any named beneficiary qualifies for that employment. Except for an H-2A petition filed electronically pursuant to paragraph (h)(5)(i)(A)(2) of this section, an H-2A petition will be automatically denied if filed without the certification evidence required in paragraph (h)(5)(i)(A)(1) of this section and, for each named beneficiary, the initial evidence required in paragraph (h)(5)(v) of this section.

* * * * *

Kristi Noem,
Secretary, U.S. Department of Homeland Security.

[FR Doc. 2025-19235 Filed 9-30-25; 4:15 pm]

BILLING CODE 9111-97-P